DEPARTMENT OF TRANSPORTATION

Federal Aviation Administration

14 CFR Part 39

[Docket No. 2002-SW-34-AD; Amendment 39-12786; AD 2002-12-14]

RIN 2120-AA64

Airworthiness Directives; Eurocopter France Model SA330F, G, J, and AS332C, L, and L1 Helicopters

AGENCY: Federal Aviation Administration, DOT.

ACTION: Final rule; request for comments.

SUMMARY: This amendment supersedes an existing airworthiness directive (AD) for specified Eurocopter France (ECF) model helicopters that currently requires inserting statements into the Limitations section of the Rotorcraft Flight Manual (RFM) prohibiting flight under certain atmospheric conditions. This amendment contains the same requirements but corrects, expands, and updates the applicability. This amendment is prompted by an incident in which a Multi-Purpose Air Intake (MPAI) inlet seal deflated after the P2 air system line, which feeds the seal, clogged due to the formation of ice. The actions specified by this AD are intended to prevent clogging of the MPAI seal P2 air system line due to ice formation, which could result in deflation of the MPAI seal, loss of engine power, and subsequent loss of control of the helicopter.

DATES: Effective July 8, 2002.

Comments for inclusion in the Rules Docket must be received on or before August 20, 2002.

ADDRESSES: Submit comments in triplicate to the Federal Aviation Administration (FAA), Office of the Regional Counsel, Southwest Region, Attention: Rules Docket No. 2002-SW-34-AD, 2601 Meacham Blvd., Room 663, Fort Worth, Texas 76137. You may also send comments electronically to the Rules Docket at the following address: 9-asw-adcomments@faa.gov.

FOR FURTHER INFORMATION CONTACT: Paul Madej, Aviation Safety Engineer, FAA, Rotorcraft Directorate, Rotorcraft Standards Staff, Fort Worth, Texas 76193-0111, telephone (817) 222-5125, fax (817) 222-5961.

SUPPLEMENTARY INFORMATION: On October 29, 1999, the FAA issued AD 99-23-07, Amendment 39-11403, (64 FR 60336, November 5, 1999), to require inserting statements into the Limitations section of the RFM prohibiting flight under certain atmospheric conditions. That action was prompted by an incident in which an MPAI inlet seal deflated after the P2 air system line, which feeds the seal, clogged due to the formation of ice.

Since the issuance of that AD, the FAA has determined that there are two errors in the applicability section. First, MOD 0723672 should not apply to the ECF Model SA330F or G helicopters. Second, there is an error in the MOD number for the ECF Model SA332C, L, and L1 helicopters; currently, it is stated as MOD 0725855 but it should be stated as MOD 0725885. Additionally, we have determined that, for the ECF Model SA332C, L, and L1 helicopters, the AD should refer to the revised Eurocopter Service Bulletin (SB) No. 30.00.44, Revision 1, dated July 12, 1999, and provide the added option for MOD 0725974 and MOD 0725998 in accordance with SB No. 30.00.46, dated July 12, 1999. For the ECF Model SA330J helicopters, the manufacturer also has issued SB No. 30.16, Revision 1, dated February 3, 2000, and added the option for MOD 0725920 in accordance with SB No. 30.17, dated February 3, 2000, to update that service information.

The Direction Generale De L'Aviation Civile (DGAC), which is the airworthiness authority for France, has notified the FAA that an unsafe condition may exist on ECF Model SA330F, G, J, and AS332C, L, and L1 helicopters. The DGAC has advised that there was an incident in which an MPAI seal deflated due to ice formation in the P2 air system line. Deflation of an MPAI seal creates an unsafe condition. The DGAC has adopted the manufacturer's service information and issued DGAC AD 1998-201-068(A)R2, dated September 22, 1999, and DGAC AD 1998-202-080(A)R2, dated April 5, 2000, in order to assure the continued airworthiness of these helicopters in France.

These helicopter models are manufactured in France and are type certificated for operation in the United States under the provisions of 14 CFR 21.29 and the applicable bilateral agreement. Pursuant to this bilateral agreement, the DGAC has kept the FAA informed of the situation described above. The FAA has examined the findings of the DGAC, reviewed all available information, and determined that AD action is necessary for products of this type design that may be certificated for operation in the United States.

This unsafe condition is likely to exist or develop on other ECF model helicopters of the same type designs. Therefore, this AD supersedes AD 99-23-07 to correct and update the applicability. This AD requires, before further flight, inserting statements into the Limitations section of the RFM which prohibit flight in certain atmospheric conditions, and prohibit flight in specific conditions unless operation of the MPAI seal has been visually checked.

None of the helicopters affected by this action are registered in the U.S. All helicopters included in the applicability of this rule are operated by non-U.S. operators under foreign registry; therefore, they are not directly affected by this AD action. However, the FAA considers that this rule is necessary to ensure that the unsafe condition is addressed in the event that any of these subject helicopters are imported and placed on the U.S. Register in the future.

Should an affected helicopter be imported and placed on the U.S. Register in the future, it would require approximately 1 work hour to insert the statements into the RFM, at an average labor rate of $60 per work hour. Based on these figures, the cost impact of this AD would be $60 per helicopter.

Since this AD action does not affect any helicopter that is currently on the U.S. Register, it has no adverse economic impact and imposes no additional burden on any person. Therefore, notice and public procedures hereon are unnecessary and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-34-AD.” The postcard will be date stamped and returned to the commenter.

The regulations adopted herein will not have substantial direct effects on the States, on the relationship between the national government and the States, or on the distribution of power and responsibilities among the various levels of government. Therefore, in accordance with Executive Order 12612, it is determined that this final rule does not have sufficient federalism implications to warrant the preparation of a Federalism Assessment.

The FAA has determined that notice and prior public comment are unnecessary in promulgating this regulation, and therefore it can be issued immediately to correct an unsafe condition since none of these model helicopters are registered in the U.S. It is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. Section 39.13 is amended by removing Amendment 39-11403 (64 F4 60336, November 5, 1999), and by adding a new airworthiness directive (AD) to read as follows:

2002-12-14 Eurocopter France: Amendment 39-12786. Docket No. 2002-SW-34-AD. Supersedes AD 99-23-07, Amendment 39-11403, Docket No. 99-SW-01-AD.

Applicability:

• Model SA330F and G helicopters with a Multi-Purpose Air Intake (MPAI) installed;

• Model SA330J helicopters with an MPAI installed and not modified by either MOD 0723672 in accordance with Eurocopter Service Bulletin No. 30.16, Revision 1, dated February 3, 2000, or MOD 0725920 in accordance with Eurocopter Service Bulletin No. 30.17, dated February 3, 2000; and

• Model AS332C, L, and L1 helicopters with an MPAI installed and not modified by either MOD 0725885 in accordance with Eurocopter Service Bulletin No. 30.00.44, Revision 1, dated July 12, 1999, or MOD 0725974 and MOD 0725998 in accordance with Eurocopter Service Bulletin No. 30.00.46, dated July 12, 1999, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required before further flight, unless accomplished previously.

To prevent clogging of the MPAI seal P2 air system line due to ice formation, which could result in deflation of the MPAI seal, loss of engine power, and subsequent loss of control of the helicopter, accomplish the following:

(a) Insert the following statement prohibiting flight in certain atmospheric conditions into the Limitations section of the Rotorcraft Flight Manual (RFM):

“A. Flight under the following conditions is prohibited:

1. Flight in clouds or fog at an OAT equal to or lower than 3 degrees Celsius (37.4 degrees Fahrenheit).

2. Flight in rain at an OAT within the temperature range of −3 degrees to +3 degrees Celsius (26.6 degrees to 37.4 degrees Fahrenheit).

B. Flight under the following conditions is prohibited unless the Multi-Purpose Air Intake seals have been visually checked for proper inflation before flight in the specified atmospheric conditions:

1. Flight in falling or recirculating snow at an OAT equal to or above −3 degrees Celsius (26.6 degrees Fahrenheit).

2. Takeoff after extended ground taxiing or holding in falling snow at an OAT equal to or above −3 degrees Celsius (26.6 degrees Fahrenheit).”

(b) This AD revises the Limitations section in the RFM by prohibiting flight in certain atmospheric conditions and prohibiting flight in other specified atmospheric conditions unless operation of the MPAI seal has been visually checked before flight in the specific atmospheric conditions.

(c) An alternative method of compliance or adjustment of the compliance time that provides an acceptable level of safety may be used if approved by the Manager, Regulations Group, FAA, Rotorcraft Directorate. Operators shall submit their requests through an FAA Principal Maintenance Inspector, who may concur or comment and then send it to the Manager, Regulations Group.

Note 2: Information concerning the existence of approved alternative methods of compliance with this AD, if any, may be obtained from the Regulations Group.

(d) Special flight permits will not be issued.

(e) This amendment becomes effective on July 8, 2002.

Note 3: The subject of this AD is addressed in Direction Generale De L'Aviation Civile (France) AD 1998-201-068(A)R2, dated September 22, 1999, and AD 1998-202-080(A)R2, dated April 5, 2000.

Issued in Fort Worth, Texas, on June 10, 2002.
Larry M. Kelly,
Acting Manager, Rotorcraft Directorate, Aircraft Certification Service.

[FR Doc. 02-15550 Filed 6-20-02; 8:45 am]

BILLING CODE 4910-13-P